FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than July 21, 2003.

A. Federal Reserve Bank of Minneapolis (Richard M. Todd, Vice President and Community Affairs Officer) 90 Hennepin Avenue, Minneapolis, Minnesota 55480-0291:

1. Lynn Martin Hoghaug, Devils Lake, North Dakota; to acquire voting shares of Ramsey Financial Corporation, Devils Lake, North Dakota, and thereby indirectly acquire voting shares of The Ramsey National Bank and Trust Company of Devils Lake, Devils Lake, North Dakota.

B. Federal Reserve Bank of San Francisco (Tracy Basinger, Director, Regional and Community Bank Group) 101 Market Street, San Francisco, California 94105-1579:

1. Kurt S. and Judith Moylan, Barrigada Heights, Guam, to acquire additional voting shares of Citizens Bancorp, Agana, Guam, and thereby indirectly acquire additional voting shares of Citizens Security Bank (Guam), Inc., Agana, Guam.

Board of Governors of the Federal Reserve System, June 30, 2003.
Robert deV. Frierson,
Deputy Secretary of the Board.

[FR Doc. 03-17031 Filed 7-3-03; 8:45 am]

BILLING CODE 6210-01-S